DEPARTMENT OF AGRICULTURE

Food Safety and Inspection Service

[Docket No. FSIS-2012-0053]

Codex Alimentarius Commission: Meeting of the Codex Committee on Food Import and Export Inspection and Certification Systems (CCFICS)

AGENCY: Office of the Under Secretary for Food Safety, USDA.

ACTION: Notice of public meeting and request for comments.

SUMMARY: The Office of the Under Secretary for Food Safety, U.S. Department of Agriculture (USDA), Food Safety and Inspection Service (FSIS), is sponsoring a public meeting on January 24, 2013. The objective of the public meeting is to provide information and receive public comments on agenda items and draft United States (U.S.) positions that will be discussed at the 20th Session of the Codex Committee on Food Import and Export Inspection and Certification Systems (CCFICS) of the Codex Alimentarius Commission (Codex), which will be held in Chiang Mai, Thailand, February 18-22, 2013. The Under Secretary for Food Safety recognizes the importance of providing interested parties the opportunity to obtain background information on the 20th Session of the CCFICS and to address items on the agenda.

DATES: The public meeting is scheduled for Thursday, January 24, 2013, from 2:00-4:00 p.m.

ADDRESSES: The public meeting will be held in the Jamie L. Whitten Building, USDA, 1400 Independence Avenue SW., Room 107-A, Washington, DC 20250. Documents related to the 20th Session of the CCFICS will be accessible via the World Wide Web at the following address: http://www.codexalimentarius.org/meetings-reports/en.

Mary Stanley, U.S. Delegate to the 20th Session of the CCFICS invites U.S. interested parties to submit their comments electronically to the following email address Mary.Stanley@fsis.usda.gov.

Call-In Number:

If you wish to participate in the public meeting for the 20th Session of the CCFICS by conference call, please use the call in number and participant code listed below.

Call-in Number: 1-888-858-2144

Participant Code: 6208658

For Further Information About the 20th Session of the CCFICS Contact: Mary Stanley, Director, International Policy Division, Office of Policy and Program Development, FSIS, USDA, Room 2925, South Agriculture Building, 1400 Independence Avenue SW., Washington, DC 20250, Phone: (202) 720-0287, Fax: (202) 720-4929, Email: Mary.Stanley@fsis.usda.gov.

For Further Information About the Public Meeting Contact: Kenneth Lowery, U.S. Codex Office, 1400 Independence Avenue SW., Room 4861, Washington, DC 20250, Phone: (202) 690-4042, Fax: (202) 720-3157, Email: Kenneth.Lowery@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCFICS Committee is responsible for

(a) Developing principles and guidelines for food import and export inspection and certification systems with a view to harmonizing methods and procedures which protect the health of consumers, ensure fair trading practices, and facilitate international trade in foodstuffs

(b) Developing principles and guidelines for the application of measures by the competent authorities of exporting and importing countries to provide assurance where necessary that foodstuffs comply with requirements, especially statutory health requirements

(c) Developing guidelines for the utilization, as and when appropriate, of quality assurance systems to ensure that foodstuffs conform with requirements and promoting the recognition of these systems in facilitating trade in food products under bilateral/multilateral arrangements by countries

(d) Developing guidelines and criteria with respect to format, declarations and language of such official certificates as countries may require with a view towards international harmonization

(e) Making recommendations for information exchange in relation to food import/export control

(f) Consulting as necessary with other international groups working on matters related to food inspection and certification systems

(g) Considering other matters assigned to it by Codex in relation to food inspection and certification systems

The Committee is hosted by Australia.

Issues To Be Discussed at the Public Meeting

The following items on the agenda for the 20th Session of the CCFICS will be discussed during the public meeting:

• Matters referred to the CCFICS by Codex and other Codex Committees and Task Forces

• Activities of the FAO and WHO relevant to the work of the CCFICS

• Activities of other international organizations relevant to the work of the CCFICS

• Draft and proposed draft principles and guidelines for national food control systems

• Discussion paper on burden of multiple questionnaires directed at exporting countries

• Discussion paper on monitoring regulatory performance of national food control systems

• Discussion paper on the need for further guidance on food safety emergencies and on the analysis of proposed change to the CCFICS texts on emergencies and rejections to address feed

• Other business and future work

Each issue listed will be fully described in documents distributed, or to be distributed, by the Secretariat prior to the meeting. Members of the public may access copies of these documents (see ADDRESSES).

Public Meeting

At the January 24, 2013, public meeting, draft U.S. positions on the agenda items will be described and discussed, and attendees will have the opportunity to pose questions and offer comments. Written comments may be offered at the meeting or sent to Mary Stanley, U.S. Delegate for the 20th Session of the CCFICS (see ADDRESSES). Written comments should state that they relate to activities of the 20th Session of the CCFICS.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC on: December 21, 2012.
MaryFrances Lowe,
U.S. Manager for Codex Alimentarius.

[FR Doc. 2012-31554 Filed 12-31-12; 8:45 am]

BILLING CODE 3410-DM-P